DEPARTMENT OF TRANSPORTATION

Federal Aviation Administration

14 CFR Part 71

[Docket No. FAA-2012-1168; Airspace Docket No. 07-AWA-3]

RIN 2120-AA66

Proposed Modification of the Dallas/Fort Worth Class B Airspace Area; TX

AGENCY: Federal Aviation Administration (FAA), DOT.

ACTION: Notice of proposed rulemaking (NPRM).

SUMMARY: This action proposes to modify the Dallas/Fort Worth, TX, Class B airspace area to ensure containment of large turbine-powered aircraft flying instrument procedures to and from the Dallas/Fort Worth International Airport (DFW) and Dallas Love Field Airport (DAL) within Class B airspace. The FAA is proposing these actions to further support its national airspace redesign goal of optimizing terminal and en route airspace areas to enhance safety, improving the flow of air traffic, and reducing the potential for near midair collision in the DFW terminal area.

DATES: Comments must be received on or before March 25, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2012-1168 and Airspace Docket No. 07-AWA-3 at the beginning of your comments. You may also submit comments through the Internet at http://www.regulations.gov.

FOR FURTHER INFORMATION CONTACT: Colby Abbott, Airspace Policy and ATC Procedures Group, AJV-113, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-1168 and Airspace Docket No. 07-AWA-3) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2012-1168 and Airspace Docket No. 07-AWA-3.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Central Service Center, Operations Support Group, Federal Aviation Administration, 2601 Meacham Blvd. Fort Worth, TX 76137.

Persons interested in being placed on a mailing list for future NPRMs should contact the FAA's Office of Rulemaking, (202) 267-9677, for a copy of Advisory Circular No. 11-2A, Notice of Proposed Rulemaking Distribution System, which describes the application procedure.

Background

In 1973, the FAA issued a final rule (38 FR 13635) which established the Dallas-Fort Worth, TX, Terminal Control Area (TCA) around the Dallas-Fort Worth Airport, later renamed the Dallas/Fort Worth International Airport (DFW), with an effective date of September 30, 1973. In 1993, the FAA issued the Airspace Reclassification final rule (56 FR 65638), which replaced the term “terminal control area” with the term “Class B airspace area.”

The primary purpose of Class B airspace is to reduce the potential for midair collisions in the airspace surrounding airports with high density air traffic operations by providing an area in which all aircraft are subject to certain operating rules and equipment requirements. FAA policy requires that Class B airspace areas be designed to contain all instrument procedures and that air traffic controllers vector aircraft to remain within Class B airspace after entry. If it becomes necessary to extend the flight path outside Class B airspace for spacing, controllers must inform the aircraft when leaving and re-entering Class B airspace. However, in the interest of safety, FAA policy dictates that such extensions be the exception rather than the rule.

The configuration of the Dallas/Fort Worth Class B airspace area has been modified five times since being established as a TCA, with the last modification accomplished in 1996. In 1978, 1984, and 1986, the FAA issued final rules (43 FR 17937, 49 FR 25424, and 51 FR 19749) to fully contain large turbine-powered aircraft within TCA airspace as the aircraft flew instrument procedures to and from DFW. In 1992, the FAA issued a final rule (57 FR 166) that revoked the Airport Radar Service Area surrounding DAL and incorporated the airport into the surface area of the Dallas Fort-Worth TCA. The FAA determined the mix of small propeller and high performance aircraft at lower altitudes around DAL necessitated modifying the TCA design to include DAL within the TCA in the interest of flight safety and that it would result in a greater degree of protection for the greatest number of people during fight in the DFW terminal area. In 1996, the FAA issued the last rule (61 FR 47815) modifying the Dallas/Fort Worth Class B airspace area. That rule raised the upper limit of the Class B airspace area to 11,000 feet mean sea level (MSL), except in the northern and southern portions of the airspace area, and redefined several existing subareas to improve the flow of aviation traffic and enhance safety in the Class B airspace area while accommodating the concerns of airspace users.

Since the last Dallas/Fort Worth Class B airspace modification in 1996, the air traffic operations into and out of both DFW and DAL have changed dramatically due to increased traffic levels, a considerable different fleet mix, updated instrument approach and departure procedures, and airport infrastructure improvements. The Class B airspace configuration has not kept pace with airport expansions and increasing operations and the current design makes it difficult to comply with FAA's policy to contain certain aircraft operations within Class B airspace. For calendar years 2009, 2010, and 2011, DFW documented 638,782; 652,258; and 646,803 total airport operations and was rated 4th among all Commercial Service Airports with 26,663,984; 27,100,656; and 27,518,358 passenger enplanements each year, respectively. During the same calendar year periods, DAL documented 172,962; 168,544; and 179,198 total airport operations.

Under the current Class B airspace configuration, aircraft routinely enter, exit, and then re-enter Class B airspace while flying published instrument approach procedures to DFW runway 13R, DAL runways 31R and 31L, and DAL runways 13R and 13L, which is contrary to FAA Orders. Modeling of existing traffic flows has shown that the proposed Dallas/Fort Worth Class B airspace modifications would enhance safety by containing all instrument procedures, and associated traffic patterns, at DFW and DAL within the confines of Class B airspace and better segregate IFR aircraft arriving and departing DFW and DAL and the VFR aircraft operating in the vicinity of the Dallas/Fort Worth Class B airspace area. The proposed Class B airspace modifications described in this NPRM are intended to address these issues.

Changes Needed to Existing Class B Airspace

The current Class B design does not fully contain large turbine-powered aircraft flying instrument arrival procedures to DFW and DAL once they have entered the airspace as required by FAA policy. With a renewed safety emphasis on retaining all large turbine-powered aircraft within the Class B airspace to avoid mixing with other aircraft that are not in contact with Air Traffic Control (ATC), keeping those aircraft within the existing Dallas/Fort Worth Class B airspace is not always possible. For example, when operations are on a south flow, arrivals to DFW runway 13R flying straight-in from Bowie, TX, routinely exit the bottom of the Class B airspace shelf with a 5,000 foot MSL floor and re-enter the side of the Class B airspace shelf with a 4,000 foot MSL floor. Approximately half of the arrivals to DAL runways 13R and 13L from the northeast exit the bottom of the Class B airspace shelf with a 3,000 foot MSL floor into the Addison, TX (ADS), Class D airspace and re-enter the side of the Class B airspace shelf with a 2,000 foot MSL floor. When operations are on a north flow, aircraft arrivals to DAL runways 31R and 31L flying straight-in from Cedar Creek, TX, routinely exit the bottom of the Class B airspace shelf with a 4,000 foot MSL floor and re-enter the side of the Class B airspace shelf with a 2,500 foot MSL floor or the surface area, or they exit the bottom of the Class B airspace shelf with a 2,500 foot MSL floor and re-enter the side of the surface area.

Pre-NPRM Public Input

In January 2008, an Ad Hoc Committee was formed to provide comments and recommendations for the FAA to consider in designing a proposed modification to the Dallas/Fort Worth Class B airspace area. The committee met three times between January and April, 2008, and forwarded three recommendations to the FAA on May 16, 2008. The Ad Hoc Committee membership consisted of representatives from the City of Dallas-Department of Aviation, Aircraft Owners and Pilots Association (AOPA), National Business Aviation Association (NBAA), Texas Soaring Association, Skydive Dallas, American and Southwest Airlines, and representatives from Addison Airport, TX (ADS); Lancaster Regional Airport, TX (LNC); and Mesquite Metro Airport, TX (HQZ).

In addition, as announced in the Federal Register (73 FR 50258), informal airspace meetings were held on November 3, 2008, at the Lancaster Recreation Center, Lancaster, TX; on November 6, 2008, at the Cavanaugh Flight Museum, Addison, TX; on November 13, 2008, at the Denton Airport Terminal Building, Denton, TX; and on November 18, 2008, at the Mesquite Airport Terminal Building, Mesquite, TX. The purpose of these meetings was to provide interested airspace users with an opportunity to present their views and offer suggestions regarding planned modifications to the Dallas/Fort Worth Class B airspace area. All substantive comments received as a result of the informal airspace meetings and the recommendations made by the Ad Hoc Committee were considered in developing this proposal.

Discussion of Recommendations and Comments

Ad Hoc Committee Recommendations

As a starting point for discussion, a preliminary Class B design was presented to the Ad Hoc Committee for review. In general, the preliminary design proposal consisted of lowering Class B airspace subarea floors within portions of existing Class B airspace northwest, north, and northeast of DFW and southeast of DAL to ensure containment of large turbine-powered aircraft flying instrument procedures within Class B airspace. Specifically, a portion of existing Class B airspace (Area G) northwest of DFW was lowered 1,000 feet to support aircraft flying instrument approaches to DFW runway 13R; portions of existing Class B airspace (Areas D, E, & F) north of DFW were lowered 500 feet to 1,000 feet to support aircraft flying instrument approaches to DFW runways 17R, 17C, and 17L and runways 18R and 18L; a portion of existing Class B airspace (Area D) northeast of DFW was lowered 500 feet to support aircraft flying instrument approaches to DAL runways 13R and 13L; and portions of existing Class B airspace (Areas C & E) southeast of DAL were lowered 1,000 feet to 1,500 feet to support aircraft flying instrument approaches to DAL runways 31R and 31L. The preliminary design also expanded the Class B airspace boundary north of DFW to a 30 nautical mile (NM) radius of the Point of Origin, over the Ray Roberts Lake, to contain aircraft within Class B airspace when DFW is on a southerly landing flow. The Ad Hoc Committee submitted three recommendations to the FAA regarding the proposed modifications of the DFW Class B airspace area.

The Ad Hoc Committee was concerned with the proposed preliminary design that lowered a portion of existing Class B airspace (Area E) located southeast of DAL between 20-NM and 30-NM of the Point of Origin from a 4,000 feet MSL floor to a 2,500 feet MSL floor. They stated lowering the Class B airspace in this subarea to 2,500 feet MSL compromised safety by compressing general aviation traffic attempting to transit through that area. They recommended the FAA split this proposed subarea into two sections and raise the Class B airspace floors for one section to 3,000 feet MSL and the other to 4,000 feet MSL with the boundary between the two determined by the point where instrument approaches to the DAL runways 31R and 31L fall below 4,000 feet MSL.

The FAA accepted the Ad Hoc Committee's recommendation to split the proposed subarea and raise the Class B airspace floor altitude(s). After reviewing the DAL runway 31R and 31L arrival flight tracks from the southeast, the FAA determined a single, smaller Class B airspace subarea with the floor altitude raised would contain the instrument procedures and large turbine-powered aircraft flying the procedures within Class B airspace. The proposed subarea (Area I) has been reduced in size by half from the original design to only extend between 20-NM and 25-NM from the Point of Origin with the floor raised from 2,500 feet MSL to 3,000 feet MSL. The FAA incorporated these proposal changes to overcome the Ad Hoc Committee's safety concerns of compressing general aviation aircraft flying in the area while still containing aircraft flying the instrument approaches to DAL runways 31R and 31L within Class B airspace.

The Ad Hoc Committee was also concerned with the design of existing Class B airspace (Area D) northeast of DFW and directly over the ADS Class D airspace area that was lowered from 3,000 feet MSL to 2,500 feet MSL. They commented that VFR aircraft entering and leaving the ADS Class D airspace area would be unnecessarily compressed with these changes and recommended the FAA determine an arc, parallel to the existing 10-NM Class B airspace surface area arc, to define a smaller Class B airspace subarea with a 2,500 foot MSL floor. They argued this mitigation would retain the existing ceiling on the North and East side of the ADS Class D airspace area and eliminate the possibility for the compression noted above.

The FAA redefined the outer boundary of the proposed Class B airspace subarea with an arc, parallel to the 10-NM arc of the Class B surface area boundary, to prevent overlapping the entire ADS Class D airspace area with a 2,500 foot MSL Class B airspace floor. The FAA also reduced the size of the proposed subarea (Area F) by matching the outer boundary with the 13-NM arc of the adjacent existing Class B airspace (Area B) located north of DFW. The proposed Class B airspace subarea (Area F) would be established with a 2,500 foot MSL floor between the 10-NM and 13-NM arcs of the Point of Origin and the adjacent existing Class B airspace (Area B) segments. The Class B airspace located northeast of DFW outside the 13-NM arc from the Point of Origin would remain unchanged with the existing 3,000 foot MSL floor. Reducing the size of the proposed Class B airspace (Area F) would continue to support VFR aircraft ingressing and egressing ADS from/to the East without compression, as addressed by the Ad Hoc Committee, and ensure large turbine-powered aircraft flying instrument procedures to DAL runways 13R and 13L are contained within Class B airspace.

Additionally, to overcome potential confusion, unintentional airspace incursions, or perceived flight safety issues associated with the ADS Class D airspace area having two different ceilings as a result of this proposed action, the FAA is also considering amending the ADS Class D airspace area with a single ceiling, “to but not including 2,500 feet MSL,” as a separate airspace action. Consideration of this amendment action would not affect VFR aircraft ingressing and egressing ADS from/to the East, as noted by the Ad Hoc Committee.

Lastly, the Ad Hoc Committee recommended the FAA use prominent visual landmarks to depict boundaries and redefine the northern boundary of the Dallas/Fort Worth Class B airspace area using the southern shore and dam of the Ray Roberts Lake or the secondary road that is adjacent to the lake. They reiterated the importance of new Class B airspace boundaries being defined by prominent visual landmarks for easy identification by non-participating VFR aircraft flying in the vicinity of those boundaries.

The FAA agrees that using prominent landmarks, when available and supportive, to describe Class B airspace boundaries enables non-participant VFR aircraft to visually identify the boundaries and to avoid unintended incursions into Class B airspace. As such, the northern boundary described in the proposed Dallas/Fort Worth Class B airspace area (new Area L) was changed from a 30-NM radius of the Point of Origin, which extends over the Ray Roberts Lake, to a boundary that is parallel to the existing northern boundary and intersects the southern-most point of the Ray Roberts Lake dam for visual reference by non-participating VFR aircraft.

Informal Airspace Meeting Comments

Thirty-three comments and one petition signed by forty-one individuals addressed concerns with the Class B airspace extension north of DFW, which was designed to protect aircraft flying approaches from the north into DFW. The proposed extension involves lowering a portion of one existing Class B airspace subarea (Area D) from 3,000 feet MSL to 2,500 feet MSL, as well as lowering a portion of the floors in two other existing subareas (Areas E and F) from 4,000 feet MSL to 3,000 feet MSL over the Hidden Valley and Lakeview areas. The commenters requested that the existing Class B airspace floor be retained based on obstacle clearance issues with existing towers in the area; increased noise and emissions associated with large turbine-powered aircraft and VFR aircraft flying at lower altitudes over residential areas; economic consequences to VFR aircraft based on increased fuel burn associated with flying at lower altitudes or longer distances to circumnavigate the new area; and safety implications associated with increased numbers of aircraft at the lower, compressed altitudes.

The FAA reviewed the proposed Class B airspace extension north of DFW and alternatives available to contain the large turbine-powered aircraft flying instrument procedures within Class B airspace. In lieu of proposing to lower existing Class B airspace north of DFW as noted above, the FAA initiated procedural changes, which included modifying the instrument approach procedures and changing turn-on altitudes for aircraft flying approaches to DFW runways 17R, 17C, and 17L, and runways 18R and 18L. The FAA determined the procedural change actions would ensure consistent containment of large turbine-powered aircraft within Class B airspace and therefore is not pursuing this proposed Class B airspace modification north of DFW.

Nine comments were received about the proposed lower Class B airspace extension southeast of DAL, with seven opposing the extension altogether and one suggesting to raise the Class B airspace floor for a segment of the proposed extension. Six of the commenters were concerned about compression of VFR aircraft and the lack of viable altitudes for bi-directional VFR flight in an area frequently used by VFR aircraft. Four of the commenters argued that lowering the Class B airspace extension would force Dallas Executive Airport (RBD) and Lancaster Regional Airport (LNC) departures flying East and Northeast to remain at low altitudes for extended distances until clear of the extension; create a narrow corridor between the towers located at Cedar Hill (southwest of RBD) and the proposed extension (southeast of RBD) that student pilots flying out of RBD would have to remain within; and increase the potential for numerous unintended incursions into the proposed extension. Lastly, one commenter highlighted increased noise concerns with large turbine-powered aircraft flying at lower altitudes inbound to DAL, and one commenter contended DAL was not a primary airport and the associated instrument procedures were not required to be contained within Class B airspace.

While the FAA acknowledges the commenters' concerns, the lower Class B airspace floors southeast of DAL are necessary to contain the existing large turbine-powered aircraft flying DAL instrument procedures in use today within Class B airspace. Lowering a portion of existing Class B airspace (Area C) southeast of DAL between 15-NM and 20-NM of the Point of Origin from 2,500 feet MSL to 2,000 feet MSL, as well as a portion of existing Class B airspace (Area E) southeast of DAL between 20-NM and 25-NM of the Point of Origin, as proposed, would mitigate the commenters' concerns as much as possible while still containing large turbine-powered aircraft within Class B airspace. However, comments are invited on this proposal.

The FAA also acknowledges that compression issues may result where pilots elect to fly below the floor of Class B airspace. The Dallas/Fort Worth terminal area encompasses not only the FAA's fourth busiest airport (with over 686,000 airport operations in CY 2011), but also DAL in close proximity (with over 179,000 airport operations in CY 2011). Plus, there are numerous other airports situated in and around the Dallas/Fort Worth terminal area that contribute to the complex, high density airspace environment containing a very diverse mix of aircraft types and aviation activities. Currently, large turbine-powered aircraft and VFR aircraft are flying simultaneously in the same airspace. It is an essential safety requirement to segregate the DFW and DAL traffic from the non-participating VFR aircraft that may not be in communication with ATC. Consequently, some non-participating VFR aircraft may have to fly a little further, or at different altitudes, in order to remain clear of the proposed Class B airspace area. Ultimately, it is the pilot's responsibility to evaluate all factors that could affect a planned flight and determine the safest course of action whether it should be circumnavigating the Class B airspace, flying beneath the Class B airspace, utilizing a charted VFR flyway, or requesting Class B clearance from the Dallas/Fort Worth Terminal Radar Approach Control (TRACON).

Seven commenters objected to lowering a portion of existing Class B airspace (Area D) northeast of DFW between 10-NM and 13-NM of the Point of Origin from 3,000 feet MSL to 2,500 feet MSL to establish a proposed Class B airspace Area F. The commenters again noted increased noise and flight safety concerns associated with a lower Class B airspace floor based on large turbine-powered jets flying lower and a portion of the ADS Class D airspace area being reduced 500 feet. One commenter was concerned the lower Class B airspace shelf would negatively impact flights into both ADS and DAL. Another commenter argued that the proposed lower Class B airspace northeast of DFW provided only a 500 foot clearance between the floor of the Class B airspace and the JERIT final approach fix of the runway 15 ILS approach to ADS; highlighting that this minimal altitude separation jeopardized IFR traffic in both airspaces.

The FAA considered the Ad Hoc Committee's recommendation to reduce the size of this proposed subarea (Area F), as discussed previously, and defined the outer boundary so the proposed subarea would not overlay the entire ADS Class D airspace area. The proposal retains the proposed 2,500 foot MSL floor, but reduces the lateral size of the proposed subarea (Area F) by adjusting the outer boundary to match the 13-NM arc of the adjacent existing Class B airspace (Area B) segment located north of DFW. The proposed Class B airspace subarea (Area F) presented at the informal airspace meetings would be established with a 2,500 foot MSL floor between the 10-NM and 13-NM arcs from the Point of Origin and the adjacent existing Class B airspace (Area B) segments. The existing Class B airspace located northeast of DFW outside the 13-NM arc from the Point of Origin would remain unchanged. As previously mentioned, the proposed Class B airspace (Area F) would continue to support VFR aircraft ingressing and egressing ADS from/to the East without compression and would contain the large turbine-powered aircraft currently flying the instrument procedures to DAL runways 13R and 13L within Class B airspace. No adjustments or changes to existing traffic flows, traffic patterns, or assigned altitudes are anticipated as a result of this proposed Class B subarea. It is not expected that there would be an increase in noise or loss of flight safety associated with lower flying aircraft as a result of this proposal. Additionally, aircraft arriving and departing ADS would continue to be able to use existing landmarks. Further, aircraft operating in the ADS Class D and DFW Class B airspace areas northeast of DFW would continue to be positively controlled and required to be in contact with ATC (ADS control tower, DAL control tower, or DFW TRACON) using existing frequency procedures. This positive control and communication requirement would ensure established separation standards are applied and flight safety is not compromised.

As mentioned before, to overcome potential confusion, unintentional airspace incursions, or perceived flight safety issues associated with the ADS Class D airspace area having two different ceilings, the FAA is also considering amending the ADS Class D airspace with a single ceiling, “to but not including 2,500 feet MSL,” as a separate airspace action. Consideration of this amendment would not affect VFR aircraft ingressing and egressing ADS from/to the East, VFR aircraft circumnavigating Class B airspace, or large turbine-powered aircraft flying instrument procedures to/from DAL.

Two comments recommended the FAA consider incorporating the sliver of existing Class B airspace (Area B) located southwest and south of ADS [north of DAL] with a 2,000 foot MSL floor into the proposed Class B airspace subarea (Area F) northeast of DFW with a 2,500 foot MSL floor. The commenters offered that inclusion of the sliver of existing Class B airspace into a larger proposed Class B airspace extension northeast of DFW would reduce the complexity of Class B airspace in that area, as well as reduce the associated chart clutter.

Including the sliver of existing Class B airspace (Area B) that has a 2,000 foot MSL floor into the proposed Area F with a 2,500 foot MSL floor would be counterproductive to the FAA's efforts to ensure large turbine-powered aircraft flying instrument procedures would be contained within Class B airspace. The sliver of existing Class B airspace (Area B) is necessary to contain aircraft descending to 2,000 feet MSL for a 6-NM to 8-NM left base for turn-on to intercept the DAL ILS/RNAV/RNP approaches to runways 13R and 13L. This tight turn-on, from 2,000 feet MSL, to DAL is necessary to remain clear of air traffic landing at DFW on runway 17L.

Conversely, lowering the proposed Class B airspace (Area F) northeast of DFW to reflect a 2,000 foot MSL floor to match the sliver of existing Class B airspace (Area B), to overcome chart clutter and airspace complexity concerns, would be inappropriate as it would incorporate more airspace in the Class B airspace configuration than is necessary. Therefore, the FAA is not proposing any amendment to the sliver of existing Class B airspace (Area B) discussed above.

One commenter challenged the necessity of lowering the airspace extensions northwest of DFW and southeast of DAL to contain the instrument procedures for DFW and DAL since the areas extend beyond the reliable ILS service volume distance of 18-NM as addressed in the Aeronautical Information Manual (paragraph 1-1-9).

The proposed Class B airspace extension southeast of DAL actually overlaps the ILS Localizer service area volumes supporting DAL runways 31R and 31L. The ILS Localizer service volumes supporting DFW runways 13R and 13L extend out the standard 18-NM; however, simultaneous ILS approach operations to those runways require the aircraft being turned onto parallel final approach courses be separated by 3 miles longitudinally, or 1,000 feet vertically until they are established on the final approach course. As such, the Class B airspace extension northwest of DFW was proposed with the minimum amount of airspace necessary to contain the large turbine-powered aircraft flying the procedures within Class B airspace.

One commenter opposed lowering a portion of existing Class B airspace (Area G) located northwest of DFW from 5,000 feet MSL to the proposed 4,000 feet MSL, stating that the lower Class B airspace would force transient non-participating VFR aircraft to fly closer to multiple 3,000 foot towers located just northwest of the DFW Class B airspace area.

The multiple 3,000 foot towers addressed by the commenter are located approximately 12-NM outside the nearest Dallas/Fort Worth Class B airspace area boundary. The nearest existing Class B airspace subarea (Area F) to these towers has a 4,000 foot MSL floor and is not affected by this action. Lowering a portion of existing Class B airspace (Area G) from 5,000 feet MSL to 4,000 feet MSL would also not affect any VFR aircraft operating in the vicinity of the towers.

Lastly, one comment was received stating that unless additional data could be provided, the 11,000 foot MSL ceiling of the Dallas/Fort Worth Class B airspace area was not needed. The commenter recommended the FAA take note of other busy terminal airspace areas that do not use such a high ceiling; using the New York City Class B and Boston Class B airspaces with 7,000 foot MSL ceilings as examples. The commenter further determined that the DFW Class B airspace area could safely operate with a ceiling of 8,500 feet MSL and argued this would have a positive impact on all airspace users by decongesting air traffic control frequencies and permitting non-participating VFR pilots to transition the DFW Class B airspace area without the need to contact the Dallas/Fort Worth TRACON.

Although other locations have Class B airspace ceilings lower than the Dallas/Fort Worth Class B airspace area, Class B airspace dimensions are individually tailored to meet site-specific requirements. The Class B airspace area proposed in this action is the minimum amount of airspace necessary to contain large turbine-powered aircraft flying instrument arrival and departure procedures within Class B airspace. Additionally, the existing 10,000 foot/11,000 foot MSL Dallas/Fort Worth Class B airspace ceiling was established in 1996 (61 FR 47815) to accommodate arriving aircraft using standard instrument arrival routes and departing aircraft using standard instrument departure routes into and out of the DFW Metroplex area. Lowering the Class B airspace area ceilings would mix the large turbine-powered aircraft flying on the eight primary arrival and sixteen departure routes to and from DFW and DAL, transitioning between the en route and terminal airspace environments, with the uncontrolled VFR aircraft transiting over the top of the Class B airspace area. By keeping the Dallas/Fort Worth Class B airspace ceilings unchanged at 10,000 feet/11,000 feet MSL, the FAA is able to provide positive control to IFR aircraft arriving and departing DFW and DAL and the VFR aircraft that have obtained Class B airspace clearances from the non-participating VFR aircraft transiting in the vicinity of the Class B airspace area. Having VFR aircraft that are not in communication with ATC operating in this terminal airspace area reduces the margin of safety in the high volume airspace surrounding the FAA's fourth busiest airport. For these reasons, the FAA is not proposing to change the Dallas/Fort Worth Class B airspace area ceilings.

The Proposal

The FAA is proposing an amendment to Title 14 of the Code of Federal Regulations (14 CFR) part 71 to modify the Dallas/Fort Worth, TX, Class B airspace area. This action (depicted on the attached chart) proposes to lower the northern portion of existing Area G located northwest of DFW to 4,000 feet MSL, lower a portion of existing Area D located northeast of DFW between the 10-NM and 13-NM arcs from the Point of Origin to 2,500 feet MSL, lower approximately the southern half of existing Area C located southeast of DAL to 2,000 feet MSL, lower a portion of existing Area E located southeast of DAL between the 20-NM and 25-NM arcs from the Point of Origin to 3,000 feet MSL, and redefine the northern boundary of the Class B airspace area using the Ray Roberts Lake dam. The Class B airspace ceiling would remain unchanged. These proposed modifications to the Dallas/Fort Worth Class B airspace area would provide the minimum airspace necessary to contain the existing large turbine-powered aircraft flying instrument procedures to and from DFW and DAL within the confines of Class B airspace.

Except for existing Area A, which extends upward from the surface to and including 11,000 feet MSL within an area surrounding the point of origin, DFW, and DAL, the proposed descriptions of all other subareas that make up the Dallas/Fort Worth Class B airspace area would be reconfigured, re-described, and realigned by geographic position in relation to the point of origin, rather than the previous practice of combining geographically separate areas that share a common altitude floor into one large, complex subarea description. The current Dallas/Fort Worth Class B airspace area consists of eight subareas (A through H) while the proposed configuration would consist of fourteen subareas (A through N). The proposed revisions to the Dallas/Fort Worth Class B airspace area, by subarea, are outlined below.

Area A. Area A is the surface area that extends from the surface up to 11,000 feet MSL. The FAA is not proposing any changes to Area A.

Area B. Area B extends upward from 2,000 feet MSL to 11,000 feet MSL in the Class B airspace contained in the current Area B that is located north, west, and south of DFW. The FAA is not proposing any changes to this portion of that Class B airspace.

Area C. Area C extends upward from 2,000 feet MSL to 11,000 feet MSL in the Class B airspace contained in the current Area B that is located east of DFW. The FAA is not proposing any changes to this portion of that Class B airspace.

Area D. Area D is a new area extending upward from 2,000 feet MSL to 11,000 feet MSL located southeast of DAL from the Cowboy VOR/DME (CVE) 117°T/111°M radial clockwise to the 129°T/123°M bearing from the Point of Origin and between 15-NM and 20-NM of the Point of Origin. This new area would lower a portion of Class B airspace contained in the current Area C, south of the CVE 117°T/111°M radial, by 500 feet to overcome the issue of aircraft arriving DAL runways 31R and 31L from the southeast exiting the bottom of the Class B airspace shelf with a 2,500 foot MSL floor and then reentering the side of the Class B airspace surface area.

Area E. Area E extends upward from 2,500 feet MSL to 11,000 feet MSL in the Class B airspace contained in the current Area C that is not incorporated in the new Area D described above. The FAA is not proposing any changes to this Class B airspace.

Area F. Area F is a new area extending upward from 2,500 feet MSL to 11,000 feet MSL located northeast of DFW from the 023°T/017°M bearing from the Point of Origin clockwise to Interstate I-635 and between 10-NM and 13-NM of the Point of Origin. This new area would lower a portion of Class B airspace contained in the current Area D, northeast of DFW, by 500 feet to overcome the issue of aircraft arriving DAL runways 13R and 13L from the northeast exiting the bottom of the Class B airspace shelf with a 3,000 foot MSL floor, flying through the ADS Class D airspace area, and then reentering the side of the Class B airspace shelf with a 2,000 foot MSL floor or the side of the Class B airspace surface area.

Area G. Area G extends upward from 3,000 feet MSL to 11,000 feet MSL in the Class B airspace contained in the current Area D that is located south of DFW. The FAA is not proposing any changes to this portion of that Class B airspace.

Area H. Area H extends upward from 3,000 feet MSL to 11,000 feet MSL in the Class B airspace contained in the current Area D that is located north of DFW and not incorporated in the new Area F described above. The FAA is not proposing any changes to this Class B airspace.

Area I. Area I is a new area extending upward from 3,000 feet MSL to 11,000 feet MSL located southeast of DAL from the Cowboy VOR/DME (CVE) 117°T/111°M radial clockwise to the 129°T/123°M bearing from the Point of Origin between 20-NM and 25-NM of the Point of Origin. This new area would lower a portion of Class B airspace contained in the current Area E by 1,000 feet to overcome the issue of aircraft arriving DAL runways 31R and 31L from the southeast exiting the bottom of the Class B airspace shelf with a 4,000 foot MSL floor and then reentering the side of the Class B airspace shelf with a 2,500 foot MSL floor.

Area J. Area J extends upward from 4,000 feet MSL to 11,000 feet MSL in the Class B airspace contained in the current Area E with an extension northwest of DFW that would include a portion of Class B airspace contained in the current Area G, northwest of the 311°T/305°M bearing from the Point of Origin. This new area would overcome the issue of aircraft arriving DFW runways 13R and 13L from the northwest exiting the bottom of the Class B airspace shelf with a 5,000 foot MSL floor and then reentering the side of the Class B airspace shelf with a 4,000 foot MSL floor.

Area K. Area K extends upward from 4,000 feet MSL to 10,000 feet MSL in the Class B airspace contained in the current Area F that is located south of DFW. The FAA is not proposing any changes to this portion of that Class B airspace.

Area L. Area L extends upward from 4,000 feet MSL to 10,000 feet MSL in the Class B airspace contained in the current Area F that is located north of DFW. The FAA is proposing to extend the northern boundary further north, parallel to the existing boundary, to intercept the southern-most point of the Ray Roberts Lake dam for visual reference.

Area M. Area M extends upward from 5,000 feet MSL to 11,000 feet MSL in the remaining portion of Class B airspace contained in the current Area G that is not incorporated in the new Area J described above. The FAA is not proposing any changes to this Class B airspace.

Area N. Area N extends upward from 6,000 feet MSL to 11,000 feet MSL in the Class B airspace contained in the current Area H. The FAA is not proposing any changes to this Class B airspace.

Finally, this proposed action would update the DFW airport reference point (ARP) coordinates and includes the Cowboy VOR/DME (CVE) navigation aid information in the Class B airspace legal description to reflect current National Airspace System data.

Implementation of these proposed modifications to the Dallas/Fort Worth Class B airspace area would ensure the containment of instrument procedures and large turbine-powered aircraft flying those procedures within Class B airspace, as required by FAA directives, and enhance the efficient use of the airspace, the management of aircraft operations, and flight safety in the DFW and DAL terminal area.

All radials listed in the Dallas/Fort Worth Class B airspace description in this NPRM are stated in degrees relative to both True North and Magnetic North. Additionally, all geographic coordinates for this proposed action are stated in degrees, minutes, and seconds based on North American Datum 83.

Class B airspace areas are published in paragraph 3000 of FAA Order 7400.9W, Airspace Designations and Reporting Points, dated August 8, 2012, and effective September 15, 2012, which is incorporated by reference in 14 CFR section 71.1. The Class B airspace area listed in this document would be published subsequently in the Order.

Paperwork Reduction Act

The Paperwork Reduction Act of 1995 (44 U.S.C. 3507(d)) requires that the FAA consider the impact of paperwork and other information collection burdens imposed on the public. We have determined that there is no new information collection requirement associated with this NPRM.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Public Law 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this proposed rule. The reasoning for this determination follows:

This action proposes to modify the DFW Class B airspace area to ensure the containment of large turbine-powered aircraft flying instrument procedures to and from the Dallas/Fort Worth International Airport and Dallas Love Field Airport within Class B airspace, reduce controller workload, and reduce the potential for near midair collision in the DFW terminal area. It lowers the Class B airspace floor in some sections to encompass existing IFR traffic. Lowering the floor of the Class B airspace would increase safety by segregating large turbine-powered aircraft from aircraft that may not be in contact with ATC. It would reduce air traffic controller workload by reducing the number of radio communications that air traffic controllers must use to inform IFR aircraft when they are leaving and re-entering Class B airspace. This would reduce the amount of distraction that air traffic controllers face in issuing these communications and free radio time for more important control instructions. IFR traffic would not be rerouted as a result of this proposal.

The proposed airspace restructuring would result in safety benefits and increased operational efficiencies. This rule would enhance safety by reducing the number of aircraft entering, exiting, and reentering Class B airspace and consequently reducing air traffic controller workload and radio frequency congestion. By expanding the Class B airspace area where aircraft are subject to certain operating rules and equipment requirements it would also reduce the potential for midair collisions. The proposed modification of the Class B airspace would provide operational advantages as well by establishing necessary airspace for controllers to sequence aircraft within Class B airspace and thereby reducing the need for controllers to vector arrivals and departures to avoid nonparticipating traffic. The change may cause some VFR pilots to have to choose between flying below Class B airspace, circumnavigating the Class B airspace area, or requesting Class B clearance to transition the area. This has the potential of increasing costs to VFR operations if the alternative routes are longer, take more time and burn more fuel. However, due to the specific restructuring we do not anticipate that VFR flights would have to travel far to circumnavigate the new proposed Class B airspace.

The FAA expects an increase in safety, some operational efficiencies from the larger Class B airspace offset slightly by possible VFR re-routings resulting in minimal cost overall. The proposal would not require updating of materials outside the normal update cycle, and would not require rerouting of IFR traffic. The expected outcome would be a minimal impact with positive net benefits, and a regulatory evaluation was not prepared. The FAA requests comments with supporting justification about the FAA determination of minimal impact.

The FAA has, therefore, determined that this proposed rule is not a “significant regulatory action” as defined in section 3(f) of Executive Order 12866, and is not “significant” as defined in DOT's Regulatory Policies and Procedures.

Initial Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The proposed rule is expected to improve safety and efficiency by redefining Class B airspace boundaries and would impose only minimal costs because it would not require rerouting of IFR traffic, could possibly cause some VFR aircraft to travel alternative routes that are not expected to be appreciably longer than with the current airspace design, and would not require updating of materials outside the normal update cycle. Therefore, the expected outcome would be a minimal economic impact on small entities affected by this rulemaking action.

Therefore, the FAA certifies this proposed rule, if promulgated, would not have a significant impact on a substantial number of small entities. The FAA solicits comments regarding this determination. Specifically, the FAA requests comments on whether the proposed rule creates any specific compliance costs unique to small entities. Please provide detailed economic analysis to support any cost claims. The FAA also invites comments regarding other small entity concerns with respect to the proposed rule.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would have only a domestic impact and therefore no effect on international trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This proposed rule does not contain such a mandate; therefore, the requirements of Title II of the Act do not apply.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 3000 Class B airspace.

* * * * *

ASW TX B Dallas/Fort Worth, TX [Amended]

Dallas/Fort Worth International Airport (Primary Airport)

(Lat. 32°53′49″ N., long. 97°02′17″ W.)

Point of Origin

(Lat. 32°51′57″ N., long. 97°01′41″ W.)

Cowboy VOR/DME (CVE)

(Lat. 32°53′25″ N., long. 96°54′14″ W.)

Boundaries.

Area A. That airspace extending upward from the surface to and including 11,000 feet MSL within an area bounded by a line beginning at the intersection of the 10-NM radius from the Point of Origin and Josey Lane at lat. 32°59′08″ N., long. 96°53′26″ W., thence southbound along Josey Lane to intersect Forest Lane at lat. 32°54′34″ N., long. 96°52′54″ W., thence eastbound along Forest Lane to intersect the 15-NM radius from the Point of Origin at lat. 32°54′33″ N., long. 96°44′07″ W., thence clockwise along the 15-NM radius to intersect the 129°T/123M bearing from the Point of Origin at lat. 32°42′29″ N., long. 96°47′52″ W., thence northwest along the 129°T/123°M bearing to intersect I-30 at lat. 32°46′04″ N., long. 96°53′07″ W., thence west along I-30 to intersect the 7-NM radius from the Point of Origin at lat. 32°45′34″ N., long. 97°05′07″ W., thence clockwise along the 7-NM radius to intersect the 310°T/304°M bearing from the Point of Origin at lat. 32°56′27″ N., long. 97°08′03″ W., thence northwest along the 310°T/304°M bearing to intersect the 10-NM radius from the Point of Origin at lat. 32°58′23″ N., long. 97°10′47″ W., thence clockwise along the 10-NM radius to the point of beginning.

Area B. That airspace extending upward from 2,000 feet MSL to and including 11,000 feet MSL within an area bounded by a line beginning at the intersection of the 10-NM radius from the Point of Origin and the 310°T/304°M bearing from the Point of Origin at lat. 32°58′23″ N., long. 97°10′47″ W., thence southeast along the 310°T/304°M bearing to intersect the 7-NM radius from the Point of Origin at lat. 32°56′27″ N., long. 97°08′03″ W., thence counterclockwise along the 7-NM radius to intersect I-30 at lat. 32°45′34″ N., long. 97°05′07″ W., thence east along I-30 to intersect the 129°T/123°M bearing from the Point of Origin at lat. 32°46′04″ N., long. 96°53′07″ W., thence southeast on the 129°T/123°M bearing to intersect the 10-NM radius from the Point of Origin at lat. 32°45′38″ N., long. 96°52′28″ W., thence clockwise along the 10-NM radius to intersect SH-303 at lat. 32°42′23″ N., long. 96°58′18″ W., thence west along SH-303 to intersect the 10-NM radius from the Point of Origin at lat. 32°42′29″ N., long. 97°05′30″ W., thence clockwise along the 10-NM radius to intersect the 300°T/294°M bearing from the Point of Origin at lat. 32°56′57″ N., long. 97°11′58″ W., thence northwest along the 300°T/294°M bearing to intersect the 13-NM radius from the Point of Origin at lat. 32°58′27″ N., long. 97°15′04″ W., thence clockwise along the 13-NM radius to intersect the 023°T/017°M bearing from the Point of Origin at lat. 33°03′56″ N., long. 96°55′38″ W., thence southwest along the 023°T/017°M bearing to intersect the 10-NM radius from the Point of Origin at lat. 33°01′10″ N., long. 96°57′02″ W., thence counterclockwise along the 10-NM radius to the point of beginning.

Area C. That airspace extending upward from 2,000 feet MSL to and including 11,000 feet MSL within an area bounded by a line beginning at the intersection of the 10-NM radius from the Point of Origin and Josey Lane at lat. 32°59′08″ N., long. 96°53′26″ W., thence southbound along Josey Lane to intersect Forest Lane at lat. 32°54′34″ N., long. 96°52′54″ W., thence eastbound along Forest Lane to intersect the 15-NM radius from the Point of Origin at lat. 32°54′33″ N., long. 96°44′07″ W., thence counter-clockwise along the 15-NM radius to intersect I-635 at lat. 32°54′42″ N., long. 96°44′09″ W., thence west along I-635 to intersect the 10-NM radius from the Point of Origin at lat. 32°55′25″ N., long. 96°50′32″ W., thence counterclockwise along the 10-NM radius to the Point of beginning.

Area D. That airspace extending from 2,000 feet MSL up to and including 11,000 feet MSL within an area bounded by a line beginning at the intersection of the CVE 117°T/111°M radial and the 15-NM radius from the Point of Origin at lat. 32°49′06″ N., long. 96°44′12″ W., thence clockwise along the 15-NM radius to intersect the 129°T/123°M bearing from the Point of Origin at lat. 32°42′29″ N., long. 96°47′52″ W., thence southeast along the 129°T/123°M bearing to intersect the 20 NM radius from the Point of Origin at lat. 32°39′19″ N., long. 96°43′16″ W., thence counterclockwise along the 20-NM radius to intersect the CVE 117°T/111°M radial at lat. 32°46′45″ N., long. 96°38′46″ W., thence northwest along the CVE 117°T/111°M radial to the point of beginning.

Area E. That airspace extending upward from 2,500 feet MSL to and including 11,000 feet MSL within an area bounded by a line beginning at the intersection of I-635 and the 15-NM radius from the Point of Origin at lat. 32°54′42″ N., long. 96°44′09″ W., thence clockwise along the 15-NM radius to intersect the CVE 117°T/111°M radial at lat. 32°49′06″ N., long. 96°44′12″ W., thence southeast along the CVE 117°T/111°M radial to intersect the 20-NM radius from the Point of Origin at lat. 32°46′45″ N., long. 96°38′46″ W., thence counterclockwise along the 20-NM radius to intersect I-635 at lat. 32°50′40″ N., long. 96°38′03″ W., thence northwest along I-635 to the point of beginning.

Area F. That airspace extending upward from 2,500 feet MSL, to and including 11,000 feet MSL within an area bounded by a line beginning at the intersection of the 023°T/017°M bearing from the Point of Origin and the 13-NM radius from the Point of Origin at lat. 33°03′56″ N., long. 96°55′38″ W., thence clockwise along the 13-NM radius to intersect I-635 at lat. 32°55′26″ N., long. 96°46′ 49″ W., thence west along I-635 to intersect the 10-NM radius from the Point of Origin at lat. 32°55′25″ N., long. 96°50′32″ W., thence counterclockwise along the 10-NM radius to intersect the 023°T/017°M bearing from the Point of Origin at lat. 33°01′10″ N., long. 96°57′02″ W., thence northeast along the 023°T/017°M bearing to the point of beginning.

Area G. That airspace extending upward from 3,000 feet MSL to and including 11,000 feet MSL within an area bounded by a line beginning at the intersection of the 300°T/294°M bearing from the Point of Origin and the 10-NM radius from the Point of Origin at lat. 32°56′57″ N., long. 97°11′58″ W., thence counterclockwise along the 10-NM radius to intersect SH-303 at lat. 32°42′29″ N., long. 97°05′30″ W., thence east along SH-303 to intersect the 10-NM radius from the Point of Origin at lat. 32°42′23″ N., long. 96°58′18″ W., thence counterclockwise along the 10-NM radius to intersect the 129°T/123°M bearing from the Point of Origin at lat. 32°45′38″ N., long. 96°52′28″ W., thence southeast along the 129°T/123°M bearing to intersect the 20-NM radius from the Point of Origin at lat. 32°39′19″ N., long. 96°43′16″ W., thence clockwise along the 20-NM radius to intersect the 217°T/211°M bearing from the Point of Origin at lat. 32°35′56″ N., long. 97°15′56″ W., thence northeast along the 217°T/211°M bearing to intersect the 13-NM radius from the Point of Origin at lat. 32°41′32″ N., long. 97°10′57″ W., thence clockwise along the 13-NM radius to intersect the 300°T/294°M bearing from the Point of Origin at lat. 32°58′27″ N., long. 97°15′04″ W., thence southeast along the 300°T/294°M bearing to the point of beginning.

Area H. That airspace extending upward from 3,000 feet MSL to and including 11,000 feet MSL within an area bounded by a line beginning at the intersection of the 13-NM radius from the Point of Origin and the 300°T/294°M bearing from the Point of Origin at lat. 32°58′27″ N., long. 97°15′04″ W., thence northwest along the 300°T/294°M bearing to intersect the 20-NM radius from the Point of Origin at lat. 33°01′56″ N., long. 97°22′17″ W., thence clockwise along the 20-NM radius to intersect I-635 at lat. 32°50′40″ N., long. 96°38′03″ W., thence northwest along I-635 to intersect the 13-NM radius from the Point of Origin at lat. 32°55′26″ N., long. 96°46′49″ W., thence counterclockwise along the 13-NM radius to the point of beginning.

Area I. That airspace extending upward from 3,000 feet MSL to and including 11,000 feet MSL within an area bounded by a line beginning at the intersection of the 20-NM radius from the Point of Origin and the 129°T/123°M bearing from the Point of Origin at lat. 32°39′19″ N., long. 96°43′16″ W., thence southeast along the 129°T/123°M bearing to intersect the 25-NM radius from the Point of Origin at lat. 32°36′09″ N., long. 96°38′41″ W., thence counterclockwise along the 25-NM radius to intersect the CVE 117°T/111°M radial at lat. 32°44′25″ N., long. 96°33′24″ W., thence northwest along the CVE 117°T/111°M radial to intersect the 20-NM radius from the Point of Origin at lat. 32°46′45″ N., long. 96°38′46″ W., thence clockwise along the 20-NM radius to the point of beginning.

Area J. That airspace extending upward from 4,000 feet MSL to and including 11,000 feet MSL within an area bounded by a line beginning at the intersection of the 217°T/211°M bearing from the Point of Origin and the 20-NM radius from the Point of Origin at lat. 32°35′56″ N., long. 97°15′56″ W., thence counterclockwise along the 20-NM radius to intersect the 129°T/123°M bearing from the Point of Origin at lat. 32°39′19″ N., long. 96°43′16″ W., thence southeast along the 129°T/123°M bearing to intersect the 25-NM radius from the Point of Origin at lat. 32°36′09″ N., long. 96°38′41″ W., thence counterclockwise along the 25-NM radius to intersect the CVE 117°T/111°M radial at lat. 32°44′25″ N., long. 96°33′24″ W., thence northwest along the CVE 117°T/111°M radial to intersect the 20-NM radius from the Point of Origin at lat. 32°46′45″ N., long. 96°38′46″ W., thence counterclockwise along the 20-NM radius to intersect the 300°T/294°M bearing from the Point of Origin at lat. 33°01′56″ N., long. 97°22′17″ W., thence southeast along the 300°T/294°M bearing to intersect the 13-NM radius from the Point of Origin at lat. 32°58′27″ N., long. 97°15′04″ W., thence counterclockwise along the 13-NM radius to intersect the 217°T/211°M bearing from the Point of Origin at lat. 32°41′32″ N., long. 97°10′57″ W., thence southwest along the 217°T/211°M bearing to intersect the 20-NM radius from the Point of Origin at lat. 32°35′56″ N., long. 97°15′56″ W., thence clockwise along the 20-NM radius to intersect I-20 at lat. 32°39′56″ N., long. 97°20′39″ W., thence west along I-20 to intersect I-820 at lat. 32°41′51″ N., long. 97°28′14″ W., thence north along I-820 to intersect the 23-NM radius from the Point of Origin at lat. 32°46′46″ N., long. 97°28′17″ W., thence clockwise along the 23-NM radius to intersect the 311°T/305°M bearing from the Point of Origin at lat. 33°07′02″ N., long. 97°22′21″ W., thence northwest along the 311°T/305°M bearing to intersect the 30-NM radius from the Point of Origin at lat. 33°11′37″ N., long. 97°28′40″ W., thence clockwise along the 30-NM radius to intersect the 315°T/309°M bearing from the Point of Origin at lat. 33°13′10″ N., long. 97°26′58″ W., thence east to the intersection of the 041°T/035°M bearing of the Point of Origin and the 30-NM radius from the Point of Origin at lat. 33°14′36″ N., long. 96°38′13″ W., thence clockwise along the 30-NM radius to intersect the 138°T/132°M bearing from the Point of Origin at lat. 32°29′34″ N., long. 96°37′57″ W., thence west to the intersection of the 217°T/211°M bearing from the Point of Origin and the 28.3 NM radius from the Point of Origin at lat. 32°29′17″ N., long. 97°21′49″ W., thence northeast along the 217°T/211°M bearing to the point of beginning.

Area K. That airspace extending upward from 4,000 feet MSL to and including 10,000 feet MSL within an area bounded by a line beginning at the intersection of the 138°T/132°M bearing from the Point of Origin and the 30-NM radius from the Point of Origin at lat. 32°29′34″ N., long. 96°37′57″ W., thence clockwise along the 30-NM radius to intersect the 149°T/143°M bearing from the Point of Origin at lat. 32°26′10″ N., long. 96°43′26″ W., thence west to the intersection of the 210°T/204°M bearing from the Point of Origin and the 30-NM radius from the Point of Origin at lat. 32°25′54″ N., long. 97°19′24″ W., thence clockwise along the 30-NM radius to intersect the 217°T/211°M bearing from the Point of Origin at lat. 32°27′55″ N., long. 97°23′01″ W., thence northeast along the 217°T/211°M bearing to intersect the 28.3-NM radius from the Point of Origin at lat. 32°29′17″ N., long. 97°21′49″ W., thence east to the point of beginning.

Area L. That airspace extending upward from 4,000 feet MSL to and including 10,000 feet MSL within an area bounded by a line beginning at the intersection of the 315°T/309°M bearing from the Point of Origin and the 30-NM radius from the Point of Origin at lat. 33°13′10″ N., long. 97°26′58″ W., thence clockwise along the 30-NM radius to the intersection of the 30-NM radius from the Point of Origin and the 344°T/338°M bearing from the Point of Origin at lat. 33°20′50″ N., long. 97°11′33″ W., thence east to the intersection of the 012°T/006°M bearing from the Point of Origin and the 30-NM radius from the Point of Origin at lat. 33°21′21″ N., long. 96°54′14″ W., thence clockwise along the 30-NM radius to intersect the 041°T/035°M bearing from the Point of Origin at lat. 33°14′36″ N., long. 96°38′13″ W., thence west to the point of beginning.

Area M. That airspace extending upward from 5,000 feet MSL up to and including 11,000 feet MSL within an area bounded by a line beginning at the intersection of the 311°T/305°M bearing from the Point of Origin and the 30-NM radius from the Point of Origin at lat. 33°11′37″ N., long. 97°28′40″ W., thence counterclockwise along the 30-NM radius to intersect the 293°T/287°M bearing from the Point of Origin at lat. 33°03′37″ N., long. 97°34′32″ W., thence southeast along the 293°T/287°M bearing to intersect the 26-NM radius from the Point of Origin at lat. 32°02′04″ N., long. 97°30′09″ W., thence counterclockwise along the 26-NM radius to intersect SH-377 at lat. 32°39′49″ N., long. 97°28′58″ W., thence southwest along SH-377 to intersect the 30-NM radius from the Point of Origin at lat. 32°36′56″ N., long. 97°32′26″ W., thence counterclockwise along the 30-NM radius to intersect the 217°T/211°M bearing from the Point of Origin at lat. 32°27′55″ N., long. 97°23′01″ W., thence northeast along the 217°T/211°M bearing to intersect the 20-NM radius from the Point of Origin at lat. 32°35′56″ N., long. 97°15′56″ W., thence clockwise along the 20-NM radius to intersect I-20 at lat. 32°39′56″ N., long. 97°20′38″ W., thence west along I-20 to intersect I-820 at lat. 32°41′51″ N., long. 97°28′14″ W., thence north along I-820 to intersect the 23-NM radius from the Point of Origin at lat. 32°46′46″ N., long. 97°28′17″ W., thence clockwise along the 23-NM radius to intersect the 311°T/305°M bearing from the Point of Origin at lat. 33°07′02″ N., long. 97°22′21″ W., thence northwest along the 311°T/305°M bearing to the point of beginning.

Area N. That airspace extending upward from 6,000 feet MSL to and including 11,000 feet MSL within an area bounded by a line beginning at the intersection of the 30-NM radius from the Point of Origin and the 293°T/287°M bearing from the Point of Origin at lat. 33°03′37″ N., long. 97°34′32″ W., thence southeast along the 293°T/287°M bearing to intersect the 26-NM radius from the Point of Origin at lat. 33°02′04″ N., long. 97°30′09″ W., thence counterclockwise along the 26-NM radius to intersect SH-377 at lat. 32°39′49″ N., long. 97°28″ 58″ W., thence southwest along SH- 377 to intersect the 30-NM radius from the Point of Origin at lat. 32°36′56″ N., long. 97°32′26″ W., thence clockwise along the 30-NM radius to the point of beginning.

* * * * *

Issued in Washington, DC, on December 12, 2012.
Gary A. Norek,
Manager, Airspace Policy and Air Traffic Control Procedures Group.

BILLING CODE 4910-13-P

[FR Doc. 2013-01118 Filed 1-18-13; 8:45 am]

BILLING CODE 4910-13-C